DEPARTMENT OF TRANSPORTATION

Maritime Administration

[USCG-2007-28535]

Atlantic Sea Island Group LLC, Safe Harbor Energy Liquefied Natural Gas Deepwater Port License Application

AGENCY: Maritime Administration, DOT.

ACTION: Notice of public meeting; reopening of scoping comment period.

SUMMARY: By Federal Register notice of January 9, 2009 (74 FR 982-984) the Maritime Administration and the Coast Guard announced the intent to prepare an environmental impact statement (EIS) for the Atlantic Sea Island Group LLC, Safe Harbor Energy liquefied natural gas deepwater port license application located in Federal Waters approximately 13.5 miles south of the City of Long Beach, New York, 19 miles east of Highlands, New Jersey, and 23 miles southeast of the Ports of New York and New Jersey. The proposed project location is in the area between the Ambrose-to-Nantucket and Hudson Canyon-to-Ambrose shipping lanes, located at approximately 40°23′ N and 73°36 W, in water depth of between 60 and 70 feet covering an area known as Cholera Bank.

The EIS will be prepared with the New York State Department of Environmental Conservation (NYSDEC) as a cooperating agency in the environmental review with the Coast Guard. The EIS will meet the requirements of both the National Environmental Policy Act (NEPA) and the New York State Environmental Quality Review Act (SEQRA). In addition, the Coast Guard and the Maritime Administration will be working with appropriate state agency representatives from New Jersey to ensure potential impacts and concerns of New Jersey are addressed in the EIS.

The Maritime Administration and Coast Guard held public scoping meetings for the Safe Harbor Energy liquefied natural gas deepwater port license application on January 27, 2009 in Eatontown, New Jersey, as well as on January 29, 2009 in Long Beach, New York. In addition, the scoping comment period was extended an additional 30 days by the Maritime Administration and Coast Guard to accommodate several requests for the scoping comment period extension. The scoping comment period closed on March 11, 2009. However, this notice announces the reopening of the scoping comment period, a public meeting to be held in connection with the EIS, and request for public comments on the scope of the EIS.

DATES: A public meeting will be held in Rockaway, New York on April 19, 2009. The public meeting will be held from 4 p.m. to 6 p.m. and will be preceded by an open house from 2 p.m. to 3:30 p.m. The public meeting may end later than the stated time, depending on the number of persons wishing to speak.

Material submitted in response to the request for comments on the license application must reach the Docket Management Facility by May 3, 2009.

ADDRESSES: The open house and public meeting will be held at: P.S. 114 Belle Harbor School, 400 Beach 135th Street, Rockaway, NY 11694; 718-634-3382.

The license application, comments and associated documentation is available for viewing at the Federal Docket Management System (FDMS) Web site: http://www.regulations.gov under docket number USCG-2007-28535.

Docket submissions for USCG-2007-28535 should be addressed to: Department of Transportation, Docket Management Facility, West Building, Ground Floor, Room W12-140, 1200 New Jersey Avenue, SE., Washington, DC 20590-0001.

The Docket Management Facility accepts hand-delivered submissions and makes docket contents available for public inspection and copying at this address between 9 a.m. and 5 p.m., Monday through Friday, except for Federal holidays. The facility phone number is 202-366-9329, the fax number is 202-493-2251, and the Web site for electronic submissions or for electronic access to docket contents is: http://www.regulations.gov.

FOR FURTHER INFORMATION CONTACT: Mark Prescott, U.S. Coast Guard, telephone: 202-372-1440, e-mail: Mark.A.Prescott@uscg.mil; or LT Hannah Kawamoto, U.S. Coast Guard, telephone: 202-372-1438, e-mail: Hannah.K.Kawamoto@uscg.mil; or Yvette Fields, U.S. Maritime Administration, telephone: 202-366-0926, e-mail: Yvette.Fields@dot.gov. If you have questions on viewing the docket, call Renee V. Wright, Program Manager, Docket Operations, telephone 202-493-0402.

SUPPLEMENTAL INFORMATION:

Public Meeting and Open House

We invite you to learn about the proposed deepwater port at an informational open house and to comment at a public meeting on environmental issues related to the proposed deepwater port. Your comments will help us identify and refine the scope of the environmental issues to be addressed in the EIS.

The purpose of this open house and public meeting is to provide the public with factual information on the project and the deepwater port license application process and to give the public an opportunity to provide comments. Videography and photography will be allowed from designated areas inside the public meeting area. Items including promotional posters, placards, or banners will not be permitted inside the public meeting area.

Speaker registrations will be available at the door. Speakers at the public scoping meeting will be recognized in the following order: elected officials, public agencies, individuals or groups in the sign-up order and anyone else who wishes to speak. Speakers may be asked to limit their oral comments to three (3) minutes in order to afford everyone an opportunity to speak and if possible the meeting time may be extended to accommodate additional comments. Speakers must identify themselves and any organization represented, by name. Remarks will be recorded or transcribed for inclusion in the public docket.

You may submit written material at the public meeting, either in place of or in addition to speaking. Written material must include your name and address and will be included in the public docket.

Public docket materials will be made available to the public on the Federal Docket Management System (FDMS) Web site (see Request for Comments).

Our public meeting locations are wheelchair-accessible. If you plan to attend the open house or public meeting and need special assistance such as sign language interpretation or other reasonable accommodation, please notify the Coast Guard (see FOR FURTHER INFORMATION CONTACT) at least 3 business days in advance. Include your contact information as well as information about your specific needs.

Request for Comments

We request public comments or other relevant information on environmental issues related to the proposed deepwater port license application. The public hearing is not the only opportunity you have to comment. In addition to or in place of attending a hearing, you can submit comments to the Docket Management Facility or to the FDMS Web site during the public comment period (see DATES). We will consider all comments and material received during the comment period. All previous comments submitted to the docket do not need to be resubmitted.

Submissions should include:

• Docket number USCG-2007-28535.

• Your name and address.

Submit comments or material using only one of the following methods:

• Electronic submission to FDMS: http://www.regulations.gov

• Fax, mail, or hand delivery to the Docket Management Facility (see ADDRESSES). Faxed or hand delivered submissions must be unbound, no larger than 8½ by 11 inches, and suitable for copying and electronic scanning. If you mail your submission and want to know when it reaches the Facility, include a stamped, self-addressed postcard or envelope.

Regardless of the method used for submitting comments or material, all submissions will be posted, without change, to the FDMS Web site (http://www.regulations.gov) and will include any personal information you provide. Therefore, submitting this information makes it public. You may wish to read the Privacy and Use Notice that is available on the FDMS Web site, and the Department of Transportation Privacy Act Notice that appeared in the Federal Register on April 11, 2000 (65 FR 19477), see PRIVACY ACT. You may view docket submissions at the Docket Management Facility or electronically on the FDMS Web site (see ADDRESSES).

Background

Information about deepwater ports, the statutes, and regulations governing their licensing and the receipt of the current application for the proposed Safe Harbor Energy liquefied natural gas (LNG) deepwater port appears in the Federal Register on August 27, 2007 (72 FR 49041), which can be accessed at: edocket.access.gpo.gov/2007/pdf/E7-16857.pdf. The “Summary of the Application” from that publication is reprinted below for your convenience.

Consideration of a deepwater port license application includes review of the proposed deepwater port's natural and human environmental impacts. The Coast Guard is the lead agency for determining the scope of this review and in this case the Coast Guard has determined that this review must include preparation of an EIS. This notice is required by 40 CFR 1501.7 and briefly describes the proposed action and possible alternatives and our proposed scoping process.

The New York State Department of Environmental Conservation has determined that the proposed port and subsea pipeline may result in significant adverse environmental impacts, as defined under the State Environmental Quality Review Act (SEQRA) and that compliance with SEQRA requires preparation of an Environmental Impact Statement (EIS). Because of the many similarities in requirements, the Coast Guard, Maritime Administration and New York State Department of Environmental Conservation (NYSDEC) have agreed to cooperate in preparing a single document that satisfies both the NEPA and SEQRA.

The EIS will be consistent with the Deepwater Port Act (DWPA) of 1974, as amended (33 U.S.C. 1501-1524); the NEPA (Section 102[2][c]), as implemented by Council on Environmental Quality regulations (40 CFR 1500-1508); and SEQRA (6 NYCRR Part 617). The environmental review and analysis will be completed according to the timeline prescribed by the DWPA, which requires a decision within 365 days of the publication of the Notice of Application. The period to complete all NEPA/SEQRA documents is approximately 240 days. This timeline will govern the activities related to the processing of the license application and the completion of all NEPA and SEQRA related actions needed to support the Maritime Administrator's decision regarding whether to approve, approve with conditions, or disapprove the proposed license.

This notice provides compliance with the requirements of the NEPA regulations and also serves as the notice of a scoping session under SEQRA. It briefly describes the proposed action, possible alternatives, and our proposed scoping process. Address any questions about the proposed action, the scoping process, or the EIS to the Coast Guard (see FOR FURTHER INFORMATION CONTACT).

Proposed Action and Alternatives

The proposed action requiring environmental review is the Federal licensing of the proposed deepwater port described in “Summary of the Application” below. The alternatives to licensing the proposed port are: (1) Licensing with conditions (including conditions designed to mitigate environmental impact), or (2) denying the application, which for purposes of environmental review is the “no-action” alternative.

Scoping Process

Public scoping is an early and open process for identifying and determining the scope of issues to be addressed in the EIS. Scoping begins with this notice, continues through the public comment period (see DATES), and ends when the Coast Guard, Maritime Administration and NYSDEC have completed the following actions:

• Invites the participation of Federal, State, and local agencies, any affected Indian tribe, the applicant, and other interested persons;

• Determines the actions, alternatives, and impacts described in 40 CFR 1508.25;

• Identifies and eliminates, from detailed study, those issues that are not significant or that have been covered elsewhere;

• Allocates responsibility for preparing EIS components;

• Indicates any related environmental assessments or environmental impact statements that are not part of the EIS;

• Identifies other relevant environmental review and consultation requirements;

• Indicates the relationship between timing of the environmental review and other aspects of the application process; and

• At its discretion, exercises the options for scoping provided in 40 CFR 1501.7(b).

Once the scoping process is complete, the Coast Guard, Maritime Administration, and NYSDEC will prepare a draft EIS, and we will publish a Federal Register notice announcing its public availability. (If you want that notice to be sent to you, please contact the Coast Guard (see FOR FURTHER INFORMATION CONTACT). You will have an opportunity to review and comment on the draft EIS. The Coast Guard, Maritime Administration, and NYSDEC will consider those comments and then prepare the final EIS. As with the draft EIS, we will announce the availability of the final EIS and once again give you an opportunity for review and comment.

Availability of EIS

A notice of availability (NOA) will be published in the Federal Register when the DEIS is available and NYSDEC will publish a notice of completion of Draft EIS, prepared in accordance with SEQRA § 617.12, in NYSDEC's online Environmental Notice Bulletin (ENB). The ENB is accessible on NYSDEC's Web site at: dec.state.ny.us. The DEIS in hardcopy or electronic format will be distributed to agencies, local public libraries and interested parties that have requested copies. Anyone who wishes to comment on the draft report will be provided with an opportunity to review the DEIS and to offer comments on the environmental effects of the proposed project. Comments received during the DEIS review period will be available on the public docket and responded to in the FEIS. A Notice of Availability of the FEIS will also be published in the Federal Register, and NYSDEC will publish a notice of completion of the final EIS and file copies of the final EIS in accordance with SEQRA § 617.12. Additional public meetings will be held after the draft and final documents are published.

Summary of the Application

Atlantic Sea Island Group LLC (ASIG), proposes to own, construct, and operate a deepwater port, named Safe Harbor Energy, in the Federal waters of the Atlantic Outer Continental Shelf in the area known as the New York Bight region in MMS lease area NK18-12 block 6655. The proposed location is approximately 13.5 miles south of the City of Long Beach, New York, 19 miles east of Highlands, New Jersey, and 23 miles southeast of the Ports of New York and New Jersey. The proposed project location is in the area between the Ambrose-to-Nantucket and Hudson Canyon-to-Ambrose shipping lanes, located at approximately 40°23′N and 73°36W, in water depth of between 60 and 70 feet covering an area known as Cholera Bank.

The deepwater port, Safe Harbor Energy, consists of three components: An island to be constructed of natural sand, gravel, and rock materials surrounded by armored breakwaters, consisting of prefabricated caissons, armor units, and rock; an LNG receiving, storage, and regasification facility; and a subsea pipeline that would transport the natural gas to an offshore connection with the Transcontinental Gas Pipeline Corporation's pipeline system. The pipeline would consist of two parallel 36-inch diameter pipe segments extending 12.8 miles from the island. Safe Harbor Energy will include berthing and offloading space for two conventional LNG vessels with capacity of 70,000 m³ to 270,000 m³. Additionally, it will accommodate support vessels including docking/firefighting tugs and crew support launches. The storage portion would include four (4) 180,000 m³ full-containment storage tanks. The regasification equipment would be an ambient air heat exchange type. Safe Harbor Energy would have an average throughput capacity of approximately 1.15 billion cubic standard feet per day (bscfd).

A shore based facility would be used to facilitate movement of personnel, equipment, supplies, and disposable materials between the port and shore.

Construction of the deepwater port would be expected to take approximately five (5) years; with startup of commercial operations following construction, should a license be issued. The deepwater port would be designed, constructed, and operated in accordance with applicable codes and standards and would have an expected operating life of approximately 25 years.

Privacy Act

The electronic form of all comments received into the Federal Docket Management System can be searched by the name of the individual submitting the comment (or signing the comment, if submitted on behalf of an association, business, labor union, etc.). The DOT Privacy Act Statement can be viewed in the Federal Register published on April 11, 2000 (Volume 65, Number 70, pages 19477-78) or you may visit http://www.regulations.gov.

(Authority 49 CFR 1.66)

By Order of the Maritime Administrator.
Murray A. Bloom,
Acting Secretary, Maritime Administration.

[FR Doc. E9-7954 Filed 4-6-09; 8:45 am]

BILLING CODE 4910-81-P